SMALL BUSINESS ADMINISTRATION

[Disaster Declaration # 13645 and # 13646]

Iowa Disaster Number IA-00054

AGENCY: U.S. Small Business Administration.

ACTION: Amendment 1.

SUMMARY: This is an amendment of the Presidential declaration of a major disaster for Public Assistance Only for the State of Iowa (FEMA—4126—DR), dated 07/02/2013.

Incident: Severe storms, tornadoes, and flooding.

Incident Period: 05/19/2013 through 06/14/2013.

Effective Date: 08/08/2013.

Physical Loan Application Deadline Date: 09/03/2013.

Economic Injury (EIDL) Loan Application Deadline Date: 04/02/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416

SUPPLEMENTARY INFORMATION: The notice of the President's major disaster declaration for Private Non-Profit organizations in the State of IOWA, dated 07/02/2013, is hereby amended to include the following areas as adversely affected by the disaster.

Primary Counties: Worth, Howard.

All other information in the original declaration remains unchanged.

(Catalog of Federal Domestic Assistance Numbers 59002 and 59008)

James E. Rivera,
Associate Administrator for Disaster Assistance.

[FR Doc. 2013-20198 Filed 8-19-13; 8:45 am]

BILLING CODE 8025-01-P